DEPARTMENT OF COMMERCE

Census Bureau

Request for Nominations of Members To Serve on the National Advisory Committee on Racial, Ethnic, and Other Populations

AGENCY: Census Bureau, Commerce.

ACTION: Notice of request for nominations.

SUMMARY: The Director of the Census Bureau (Director) is seeking nominations for the National Advisory Committee on Racial, Ethnic and Other Populations (NAC). The purpose of the NAC is to provide advice to the Director on the full range of economic, housing, demographic, socioeconomic, linguistic, technological, methodological, geographic, behaviorial and operational variables affecting the cost, accuracy and implementation of Census Bureau programs and surveys, including the decennial census. The Director has determined that the work of the NAC is in the public interest and relevant to the duties of the Census Bureau. Therefore, the Director is seeking nominations to fill vacancies on the NAC. Additional information concerning the NAC can be found by visiting the NAC's website at: https://www.census.gov/about/cac/sac.html.

DATES: Nominations must be received on or before November 18, 2022. Nominations must contain a completed resume. The Census Bureau will retain nominations received after the deadline for consideration should additional vacancies occur.

ADDRESSES: Please submit nominations via email to the address listed below, census.national.advisory.committee@census.gov (subject line 2022 NAC Nominations”).

FOR FURTHER INFORMATION CONTACT: Shana Banks, Chief, Advisory Committee Brach, Office of Program, Performance and Stakeholder Integration (PPSI), Census Bureau, by telephone at 301-763-3815 or by email at Shana.J.Banks@census.gov. Individuals who use telecommunication devices for the deaf (TDD) may call the Federal Information Relay Service (FIRS) at 1-800-877-8339 between 8:00 a.m. and 8:00 p.m., Eastern Standard Time, Monday through Friday.

SUPPLEMENTARY INFORMATION:

Background

In accordance with the Federal Advisory Committee Act (FACA), Title 5, United States Code, Appendix 2, Section 10, the Director of the Census Bureau is seeking nominations for the National Advisory Committee on Racial, Ethnic, and Other Populations (NAC). The NAC will operate under the provisions of FACA and will report to the Secretary of the Department of Commerce through the Director of the Census Bureau.

The Census Bureau's National Advisory Committee on Racial, Ethnic, and Other Populations will advise the Director of the Census Bureau on the full range of Census Bureau programs and activities. The Advisory Committee will provide race, ethnic, and other population expertise from the following disciplines: economic, housing, demographic, socioeconomic, linguistic, technological, methodological, geographic, and behavioral and operational variables affecting the cost, accuracy, and implementation of Census Bureau programs and surveys, including the decennial census.

Objectives and Duties

1. The NAC advises the Director of the Census Bureau (the Director) on the full range of economic, housing, demographic, socioeconomic, linguistic, technological, methodological, geographic, behavioral, and operational variables affecting the cost, accuracy, and implementation of Census Bureau programs and surveys, including the decennial census.

2. The NAC advises the Census Bureau on the data needs of underserved communities and how census data products might address such needs.

3. The NAC provides guidance on census policies, research and methodology, tests, operations, communications/messaging, and other activities to ascertain needs and best practices to improve censuses, surveys, operations, and programs.

4. The NAC reviews and provides formal recommendations and feedback on working papers, reports, and other documents related to the design and implementation of Census Bureau programs and surveys.

5. In providing insight, perspectives, and expertise on the full spectrum of Census Bureau surveys and programs, the NAC examines such areas as hidden households, language barriers, students and youth, aging populations, American Indian and Alaska Native tribal considerations, new immigrant populations, populations affected by natural disasters, highly mobile and migrant populations, complex households, poverty, race/ethnic distribution, privacy and confidentiality, rural populations and businesses, individuals and households with limited access to information and communications technologies, the dynamic nature of new businesses, minority ownership of businesses, as well as other concerns impacting Census Bureau survey design and implementation.

6. The NAC uses formal advisory committee meetings, webinars, web conferences, working groups, and other methods to accomplish its goals, consistent with the requirements of the FACA. The NAC will consult with regional office staff to help identify regional, local, tribal and grass roots issues, trends and perspectives related to Census Bureau surveys and programs.

7. The NAC functions solely as an advisory body under the FACA.

Membership

1. The NAC consists of up to 32 members who serve at the discretion of the Director. The Census Bureau is seeking eight qualified candidates to be considered for appointment.

2. The NAC aims to have a balanced representation among its members, considering such factors as geography, age, sex, race, ethnicity, technical expertise, community involvement, and knowledge of census programs and/or activities.

3. The NAC aims to include members from diverse backgrounds, including state, local and tribal governments; academia; research, national, and community-based organizations; employers; and labor unions, among other organizations.

4. Members will be selected from the public and private sectors. Members may serve as Special Government Employees (SGEs) who are selected to represent specific organizations.

5. SGEs will be selected based on their expertise in or representation of specific areas to include: Diverse populations (including race and ethnic populations); national, state, local, and tribal interest organizations serving hard-to-count populations; researchers; community-based organizations; academia; business interests; marketing and media professionals; researchers; and, members of professional associations. Members will be individually advised of the capacity in which they will serve through their appointment letters.

6. Membership is open to persons who are not seated on other Census Bureau stakeholder entities (i.e., State Data Centers, Census Information Centers, Federal State Cooperative on Populations Estimates Program, other Census Advisory Committees, etc.). People who have already served one full-term on a Census Bureau Advisory Committee may not serve on any other Census Bureau Advisory Committee for three years from the termination of previous service. No employee of the federal government can serve as a member of the NAC.

7. Members will serve for a three-year term. All members will be reevaluated at the conclusion of each term with the prospect of renewal, pending the committee needs. Active attendance and participation in meetings and activities (e.g., conference calls and assignments) will be factors considered when determining term renewal or membership continuance. Members may be appointed for a second three-year term at the discretion of the Director.

8. Members will be selected on a standardized basis, in accordance with applicable Department of Commerce guidance.

Miscellaneous

1. Members of the NAC serve without compensation, but receive reimbursement for committee-related travel and lodging expenses.

2. The NAC meets at least twice a year, budget permitting, but additional meetings may be held as deemed necessary by the Census Bureau Director or Designated Federal Officer. All NAC meetings are open to the public in accordance with the FACA.

Nomination Process

1. Nominations should satisfy the requirements described in the Membership section above.

2. Individuals, groups, and/or organizations may submit nominations on behalf of candidates. A summary of the candidate's qualifications (resumé or curriculum vitae) must be included along with the nomination letter. Nominees must be able to actively participate in the tasks of the committee, including, but not limited to, regular meeting attendance, committee meeting discussant responsibilities, review of materials, as well as participation in conference calls, webinars, working groups, and/or special committee activities.

3. The Department of Commerce is committed to equal opportunity in the workplace and seeks diverse NAC membership.

Robert L. Santos, Director, Census Bureau, approved the publication of this Notice in the Federal Register.

Dated: September 28, 2022.
Shannon Wink,
Program Analyst, Policy Coordination Office, U.S. Census Bureau.

[FR Doc. 2022-21539 Filed 10-4-22; 8:45 am]

BILLING CODE 3510-07-P